DEPARTMENT OF ENERGY

Federal Energy Regulatory Commission

[Docket No. ER00-3577-000]

New England Power Pool; Notice of Filing

November 6, 2000.

Take notice that on November 2, 2000, the New England Power Pool (NEPOOL) Participants Committee submitted in the above-captioned docket supplemental information relating to its August 31, 2000 filing of the Sixty-Fourth Agreement Amending New England Power Pool Agreement (the Sixty-Fourth Agreement), which proposed the elimination of In Service. This supplemental information clarifies the purpose and intended effect on the Sixty-Fourth Agreement.

The NEPOOL Participants Committee has requested an effective date of December 1, 2000.

The NEPOOL Participants Committee states that copies of these materials were sent to all persons identified on the service list in the above-captioned docket, the NEPOOL Participants, the Non-Participant Transmission Customers and the six New England state governors and regulatory commissions.

Any person desiring to be heard or to protest such filing should file a motion to intervene or protest with the Federal Energy Regulatory Commission, 888 First Street, NE., Washington, DC 20426, in accordance with Rules 211 and 214 of the Commission's rules of practice and procedure (18 CFR 385.211 and 385.214). All such motions and protests should be filed on or before November 14, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-28922 Filed 11-9-00; 8:45 am]

BILLING CODE 6717-01-M